DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: The FAA is issuing this notice to advise the public of a meeting of the ARAC.

DATES: The meeting will be held on March 5, 2013, at 1:00 p.m.

ADDRESSES: The meeting will take place at the Federal Aviation Administration, 800 Independence Avenue SW., Washington, DC 20591, 5th Floor, Conference Room 5 A/B/C.

FOR FURTHER INFORMATION CONTACT: Renee Butner, Federal Aviation Administration, 800 Independence Avenue SW., Washington, DC 20591, telephone (202) 267- 5093; fax (202) 267-5075; email Renee.Butner@faa.gov.

SUPPLEMENTARY INFORMATION: Under section 10(a)(2) of the Federal Advisory Committee Act (5 U.S.C. App. 2), we are giving notice of a meeting of the ARAC taking place on March 5, 2012, at the Federal Aviation Administration, 800 Independence Avenue SW., Washington, DC, 20591. The Agenda includes:

1. ARAC Bylaws Discussion and Approval

2. Status Reports From Active Working Groups

a. Airman Testing Standards and Training Working Group (ARAC)

b. Flight Controls Harmonization Working Group (Transport Airplane and Engine Subcommittee [TAE])

c. Airworthiness Assurance Working Group (TAE)

3. New Tasks

a. Engine Bird Ingestion Requirements—Revision of Section 33.76

b. Transport Airplane Performance and Handling Characteristics

4. ARAC Tasking Template

5. Proposed Rulemaking for Part 21

6. Status Report From the FAA

a. Rulemaking Prioritization Working Group (RPWG)

Attendance is open to the interested public but limited to the space available. The FAA will arrange teleconference service for individuals wishing to join in by teleconference if we receive notice by February 26. Arrangements to participate by teleconference can be made by contacting the person listed in the FOR FURTHER INFORMATION CONTACT section. Callers outside the Washington metropolitan area are responsible for paying long-distance charges.

The public must arrange by February 26 to present oral statements at the meeting. The public may present written statements to the Aviation Rulemaking Advisory Committee by providing 25 copies to the Designated Federal Officer, or by bringing the copies to the meeting.

If you are in need of assistance or require a reasonable accommodation for this meeting, please contact the person listed under the heading FOR FURTHER INFORMATION CONTACT.

Issued in Washington, DC, on February 8, 2013.
Lirio Liu,
Designated Federal Officer, Aviation Rulemaking Advisory Committee.

[FR Doc. 2013-03406 Filed 2-14-13; 11:15 am]

BILLING CODE 4910-13-P